DEPARTMENT OF AGRICULTURE

Office of the Under Secretary, Research, Education, and Economics; Notice of the Advisory Committee on Biotechnology and 21st Century Agriculture Meeting

AGENCY: Agricultural Research Service, USDA.

ACTION: Notice of meeting.

SUMMARY: In accordance with the Federal Advisory Committee Act, 5 U.S.C. App. 2, the United States Department of Agriculture announces a meeting of the Advisory Committee on Biotechnology and 21st Century Agriculture (AC21).

DATES: The meeting dates are August 26, 2008, 8 a.m. to 5 p.m., and August 27, 2008, 8 a.m. to 4 p.m.

ADDRESSES: Waugh Auditorium, USDA Economic Research Service, Third Floor, South Tower, 1800 M Street NW., Washington, DC 20036.

FOR FURTHER INFORMATION CONTACT: Michael Schechtman, Telephone (202) 720-3817.

SUPPLEMENTARY INFORMATION: The twentieth meeting of the AC21 has been scheduled for August 26-27, 2008. The AC21 consists of members representing the biotechnology industry, farmers, commodity processors and shippers, livestock handlers, environmental and consumer groups, and academic researchers. In addition, representatives from the Departments of Commerce, Health and Human Services, and State, and the Environmental Protection Agency, the Office of the United States Trade Representative, and the National Association of State Departments of Agriculture serve as “ex officio” members. At this meeting, the committee will continue its consideration of governance issues in the oversight of genetically engineered animals, with an emphasis on food animals intended for food or non-food uses. Background information regarding the work of the AC21 will be available on the USDA Web site at http://www.usda.gov/wps/portal/!ut/p/_s.7_0_A/7_0_1OB?navid=BIOTECH&parentnav=AGRICULTURE&navtype=RT.

Requests to make oral presentations at the meeting may be sent to Michael Schechtman, Designated Federal Official, Office of the Deputy Secretary, USDA, 202 B Jamie L. Whitten Federal Building, 12th Street and Jefferson Drive, SW., Washington, DC 20250, Telephone (202) 720-3817; Fax (202) 690-4265; e-mail Michael.schechtman@ars.usda.gov. On August 26, 2008, if time permits, reasonable provision will be made for oral presentations of no more than five minutes each in duration. Written requests to make oral presentations at the meeting must be received by the contact person identified herein at least three business days before the meeting. The meeting will be open to the public, but space is limited. If you would like to attend the meetings, you must register by contacting Ms. Dianne Fowler at (202) 720-4074, by fax at (202) 720-3191 or by e-mail at Dianne.fowler@ars.usda.gov at least five business days prior to the meeting. Please provide your name, title, business affiliation, address, and telephone and fax numbers when you register. If you require a sign language interpreter or other special accommodation due to disability, please indicate those needs at the time of registration.

Dated: July 30, 2008.
Jeremy Stump,
Senior Advisor to the Secretary for International and Homeland Security Affairs and Biotechnology.

[FR Doc. E8-18276 Filed 8-7-08; 8:45 am]

BILLING CODE 3410-03-P